SOCIAL SECURITY ADMINISTRATION

[Docket No: SSA-2017-0014]

Agency Information Collection Activities: Proposed Request

The Social Security Administration (SSA) publishes a list of information collection packages requiring clearance by the Office of Management and Budget (OMB) in compliance with Public Law 104-13, the Paperwork Reduction Act of 1995, effective October 1, 1995. This notice includes one revision of an OMB-approved information collection.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, Fax: 202-395-6974, Email address: OIRA_Submission@omb.eop.gov

(SSA) Social Security Administration, OLCA, Attn: Reports Clearance Director, 3100 West High Rise, 6401 Security Blvd., Baltimore, MD 21235, Fax: 410-966-2830, Email address: OR.Reports.Clearance@ssa.gov

Or you may submit your comments online through www.regulations.gov, referencing Docket ID Number [SSA-2017-0014].

I. The information collection below is pending at SSA. SSA will submit it to OMB within 60 days from the date of this notice. To be sure we consider your comments, we must receive them no later than May 30, 2017. Individuals can obtain copies of the collection instrument by writing to the above email address.

Objection to Appearing by Video Teleconferencing; Acknowledgement of Receipt (Notice of Hearing); Waiver of Written Notice of Hearing—20 CFR 404.935, 404.936; 404.938, 404.939, 416.1435, 416.1436, 416.1438, & 416.1439—0960-0671. SSA uses the information we obtain on Forms HA-55, HA-504, HA-504-OP1, and HA-510 to manage the means by which we conduct hearings before an administrative law judge (ALJ), and the scheduling of hearings with an ALJ. We use the HA-55, Objection to Appearing by Video Teleconferencing, and its accompanying cover letter, HA-L2, to allow claimants to opt-out of an appearance via video teleconferencing (VTC) for their hearing with an ALJ. The HA-L2 explains the good cause stipulation for opting out of VTC if the claimant misses their window to submit the HA-55, and for verifying a new residence address if the claimant moved since submitting their initial hearing request. SSA uses the HA-504 and HA-504-OP1, Acknowledgement of Receipt (Notice of Hearing), and accompanying cover letter, HA-L83 to: (1) Acknowledge the claimants will appear for their hearing with an ALJ; (2) establish the time and place of the hearing; and (3) remind claimants to gather evidence in support of their claims. The only difference between the two versions of the HA-504 is the language used for the selection checkboxes as determined by the type of appearance for the hearing (in-person, phone teleconference, or VTC). In addition, the cover letter, HA-L83, explains: (1) The claimants' need to notify SSA of their wish to object to the time and place set for the hearing; (2) the good cause stipulation for missing the deadline for objecting to the time and place of the hearing; and (3) how the claimants can submit, in writing, any additional evidence they would like the ALJ to consider, or any objections they have on their claims. The HA-510, Waiver of Written Notice of Hearing, allows the claimants to waive their right to receive the Notice of Hearing as specified in the HA-L83. We typically use this form when there is a last minute available opening on an ALJ's schedule, so the claimants can fill in the available time slot. If the claimants agree to fill the time slot, we ask them to waive their right to receive the Notice of Hearing 75 days prior to the scheduled hearing. The respondents are applicants for Social Security disability payments who request a hearing to appeal an unfavorable entitlement or eligibility determination.

Type of Request: Revision of an OMB-approved information collection.

Modality of completion | Number of respondents | Frequency of response | Average burden per response (minutes) | Estimated total annual burden (hours)
HA-504 (with teleconferencing) | 898,000 | 1 | 30 | 449,000
HA-504-OP1 | 2,000 | 1 | 30 | 1,000
HA-L83 | 900,000 | 1 | 30 | 450,000
HA-L83—Good Cause for missing deadline | 5,000 | 1 | 5 | 417
HA-L83—Objection Stating Issues in Notice are Incorrect | 45,000 | 1 | 5 | 3,750
HA-55 | 850,000 | 1 | 5 | 70,833
HA-L2—Verification of New Residence | 45,000 | 1 | 5 | 3,750
HA-L2—Late Notification of Objection to VTC showing good cause | 13,500 | 1 | 10 | 2,250
HA-510 | 4,000 | 1 | 2 | 133
Totals | 2,762,500 |  |  | 981,133

Dated: March 27, 2017.
Naomi R. Sipple,
Reports Clearance Officer, Social Security Administration.

[FR Doc. 2017-06303 Filed 3-29-17; 8:45 am]

BILLING CODE 4191-02-P